DEPARTMENT OF THE INTERIOR

Bureau of Land Management

[WY-920-1310-01; WYW145709]

Notice of Proposed Reinstatement of Terminated Oil and Gas Lease

AGENCY: Bureau of Land Management, Interior.

ACTION: Notice of proposed reinstatement and rental/royalty reduction of terminated oil and gas lease.

SUMMARY: Under the provisions of 30 U.S.C. 188(d) and (e), and 43 CFR 3108.2-3(a), the Bureau of Land Management (BLM) received a petition for reinstatement of oil and gas lease WYW145709 for lands in Big Horn County, Wyoming. The petition was filed on time, was accompanied by all the rentals due since the date the lease terminated and, in accordance with 30 U.S.C. 188(i)(2) and 43 CFR 3108.2-3(f) included a request for reduced rental and royalty.

FOR FURTHER INFORMATION CONTACT: Bureau of Land Management, Pamela J. Lewis, Chief, Fluid Minerals Adjudication, at (307) 775-6176.

SUPPLEMENTARY INFORMATION: The lessee has agreed to the amended lease terms for rental and royalty at rates of $10.00 per acre or fraction of an acre per year and 16⅔ percent, respectively. However, this office is of the opinion that the lessees request for reduced rental and royalty rates contains sufficient evidence to determine that in the absence of granting a reduction of the rental and royalty rates to that of the original lease terms, undue economic hardship will occur and that it is equitable to do so. Therefore, upon reinstatement the rental and royalty rates for lease WYW145709 will remain at $2.00 per acre or fraction of an acre per year and 12½ percent, respectively. The lessee has paid the required $500 administrative fee and $166 to reimburse the Department for the cost of this Federal Register notice. The lessee has met all the requirements for reinstatement of the lease as set out in Section 31(d) and (e) of the Mineral Lands Leasing Act of 1920 (30 U.S.C. 188), and the Bureau of Land Management is proposing to reinstate lease WYW145709 effective August 1, 2003, under the original terms and conditions of the lease, rates cited above. BLM has not issued a valid lease affecting the lands.

Pamela J. Lewis,
Chief, Fluid Minerals Adjudication.

[FR Doc. 05-8639 Filed 4-29-05; 8:45 am]

BILLING CODE 4310-22-P